DEPARTMENT OF AGRICULTURE

Submission for OMB Review; Comment Request

February 3, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Issuance Reconciliation Report, FNS-46.

OMB Control Number: 0584-0080.

Summary of Collection: Section 7(d) of the Food and Nutrition Act of 2008, as amended, (the Act) (7 U.S.C. 2016(d)) and Regulations at 7 CFR 274.4(a) and 274.4(b)(2), requires State agencies to report on their Supplemental Nutrition Assistance Program (SNAP) benefit issuance operations not less than monthly, through a reconciliation process. The Food and Nutrition Service (FNS), administers the SNAP in cooperation with State and local governments. States are held liable by Section 7(f) of the Act, for any financial losses involved in the issuance of SNAP benefits.

Need and Use of the Information: FNS uses form FNS-46 form, Issuance Reconciliation Report, to ensure that State agencies are responsible for preventing losses or shortages of Federal funds in the issuance of benefits. The FNS-46 is used as a management tool used for the analysis of other problems in the issuance of Program benefits that are not liabilities of the State agency but are indicators of administrative problems. The FNS-46 report enables State agencies to identify other acts of fraud and/or waste so that corrective action can be taken. The data from the FNS-46 report is also used for reports to Congress, to establish State issuance liabilities, and to determine national performance measures for Quality Control.

Description of Respondents: State, Local, or Tribal Government.

Number of Respondents: 54.

Frequency of Responses: Reporting: Monthly.

Total Burden Hours: 2,592.

Ruth Brown,
Departmental Information Collection Clearance Officer.

[FR Doc. 2011-2730 Filed 2-7-11; 8:45 am]

BILLING CODE 3410-30-P